DEPARTMENT OF ENERGY

Energy Information Administration

Agency Information Collection Extension

AGENCY: U.S. Energy Information Administration (EIA), Department of Energy (DOE).

ACTION: Notice.

SUMMARY: EIA has submitted an information collection request to the Office of Management and Budget (OMB) for extension under the provisions of the Paperwork Reduction Act of 1995. The information collection requests a three-year extension of its Form GC-859 “Nuclear Fuel Data Survey,” OMB Control Number 1901-0287. Form GC-859 collects data on spent nuclear fuel from all utilities that operate commercial nuclear reactors and from all others that possess irradiated fuel from commercial nuclear reactors.

DATES: Comments regarding this proposed information collection must be received on or before January 22, 2018. If you anticipate that you will be submitting comments, but find it difficult to do so within the period of time allowed by this notice, please advise the DOE Desk Officer at OMB of your intention to make a submission as soon as possible. The Desk Officer may be telephoned at 202-395-1254 or emailed at james.n.tyree@omb.eop.gov.

ADDRESSES: Written comments should be sent to the:

DOE Desk Officer: James Tyree, Office of Information and Regulatory Affairs, Office of Management and Budget, New Executive Office Building, Room 9249, 735 17th Street NW, Washington, DC 20503.

And to: Marta Gospodarczyk, Office of Electricity, Coal, Nuclear, and Renewables Analysis, EI-34, Forrestal Building, U.S. Department of Energy, 1000 Independence Ave. SW, Washington, DC 20585, or by email at marta.gospodarczyk@eia.gov.

FOR FURTHER INFORMATION CONTACT: Requests for additional information or copies of the information collection instrument and instructions should be directed to Marta Gospodarczyk at the contact information given above or phone at, 202-586-0527. Form GC-859 and its instructions are available on the internet at https://www.eia.gov/survey/#gc-859.

SUPPLEMENTARY INFORMATION: This information collection request contains:

(1) OMB No. 1901-0287;

(2) Information Collection Request Title: Nuclear Fuel Data Survey;

(3) Type of Request: Three-year extension with changes;

(4) Purpose: The Nuclear Waste Policy Act of 1982 (42 U.S.C. 10101 et seq.) required that DOE enter into Standard Contracts with all generators or owners of spent nuclear fuel and high-level radioactive waste of domestic origin. Form GC-859 (formerly Form RW-859) originated from an appendix to this Standard Contract.

Form GC-859 collects information on nuclear fuel use and spent fuel discharges from all utilities that operate commercial nuclear reactors and from all others that possess irradiated fuel from commercial nuclear reactors. The data collection provides stakeholders with detailed information concerning the spent nuclear fuel generated by the respondents (commercial utility generators of spent nuclear fuel and other owners of spent nuclear fuel within the U.S.).

Data collected from the survey are used by personnel from DOE Office of Nuclear Energy (NE), DOE Office of Environmental Management (EM), and the national laboratories to meet their research objectives of developing a range of options and supporting analyses that facilitate informed choices about how best to manage spent nuclear fuel (SNF).

(4a) Changes to Information Collection:

• Collection of fuel manufacturer and lattice size used in Section C.1.1 of the 2013 GC-859 is replaced by fuel assembly type codes for fuel discharged from July 1, 2013—December 31, 2017. Fuel assembly type codes were last collected in the 2003 RW-859. Identification of the fuel assembly type provides significantly more information of the spent fuel than just manufacturer and lattice size.

• Section C.1.3 is added to the survey to collect fuel assembly type codes for fuel discharged from January 1, 2003—June 30, 2013. Selection boxes are added to this section to reduce reporting burden. Respondents may mark the fuel assembly type code based on the reactor design, previously used fuel types, range of assembly identification numbers, and initial cycle in core.

• “Cumulative Burnup for Each Cycle,” for each assembly is added to Section C.1.2 of the survey. Respondents may voluntarily report this data. Assembly burnup data by cycle is used to calculate discharged fuel characteristics and obtain fundamental parameters needed for spent fuel safety analyses.

• Section C.1.4 is added to the survey to collect data on all discharged fuel that is shipped or transferred to other storage sites (since January 1, 2003). This information was last collected in 2003 using Form RW-859 and allows the tracking of all spent nuclear fuel discharged by commercial reactors, regardless of current ownership or transit status.

• Section C.2 “Projected Assembly Discharges” is deleted since this data is no longer needed for analysis.

• Section C.3.3.1 requests information for consolidated, reconstituted, reconstructed fuel assemblies. A drop-down menu was created with these three choices of fuel assemblies.

• A note is added in Section D.3.2 “Multi-Assembly Canisters/Casks Inventory” to capture deviations from standard operating procedures related to drying, backfilling, leak testing, or pad transfer processes.

• Dry cask loading pattern maps with orientation details are added to Section D.3.2 of the survey. For each canister/cask model, respondents provide or reference a loading map that clearly indicates identifiers for basket cell locations relative to fixed drain and vent port locations. For systems stored horizontally, the map indicates which direction is up when placed in a horizontal storage module. The dry cask loading pattern data facilitates detailed as-loaded analyses and enables the quantification of realistic safety margins and conditions.

• Section E.2 “Non-fuel Components Integral to an Assembly” is deleted and the data on non-fuel components integral to an assembly should be reported in Section C.1.1. The collection of data on non-fuel component identifiers was also added to Section C.1.1.

• Schedule G is deleted. This schedule was used to collect comments. It is easier for respondents to provide comments when completing a schedule so the new form will collect comments after each section.

• A copy of Standard Contract (10 CFR 961.11) Appendix E General Specifications is added to the survey for the convenience of the respondents.

• The following terms have either been added or updated to match the definition prescribed by the Standard Contract; Canister, DOE Facility, Failed Fuel, Multi-Assembly Canister/Cask, Non-fuel Component Identifier, Non-standard Fuel and Reconstructed Assembly.

• DOE is changing Form GC-859 to collect information once every three years on a triennial basis. Reporting once every three years reduces respondent burden by permitting all new data for the multiyear period to be reported in one report.

• In response to a public comment on the 60-day Federal Register notice, the due date listed in Appendix A is changed to August 31, 2018, so it is consistent with the due date listed on the cover page.

(5) Annual Estimated Number of Respondents: 125.

(6) Annual Estimated Number of Total Responses: 42.

(7) Annual Estimated Number of Burden Hours: 3,747 hours.

(8) Annual Estimated Reporting and Recordkeeping Cost Burden: Additional costs to respondents are not anticipated beyond costs associated with response burden hours. The information is maintained in the normal course of business. The cost of the burden hours is estimated to be $276,004 (3,747 burden hours times $73.66 per hour). EIA estimates that there are no additional costs to respondents associated with the survey other than the costs associated with the burden hours.

Statutory Authority: Section 13(b) of the Federal Energy Administration Act of 1974, Public Law 93-275, codified as 15 U.S. C. 772(b) and the DOE Organization Act of 1977, Public Law 95-91, codified at 42 U.S.C. 7101 et seq., The Nuclear Waste Policy Act of 1982 codified at 42 U.S.C. 10222 et seq.

Issued in Washington, DC, on December 15, 2017.
Nanda Srinivasan,
Director, Office of Survey Development and Statistical Integration, U.S. Energy Information Administration.

[FR Doc. 2017-27597 Filed 12-21-17; 8:45 am]

BILLING CODE 6450-01-P